DEPARTMENT OF COMMERCE

International Trade Administration

[A-570-058, A-428-845, A-533-873, A-475-838, A-580-892, A-441-801]

Certain Cold-Drawn Mechanical Tubing of Carbon and Alloy Steel From the People's Republic of China, the Federal Republic of Germany, India, Italy, the Republic of Korea, and Switzerland: Final Results of the Expedited First Sunset Review of the Antidumping Duty Orders

AGENCY: Enforcement and Compliance, International Trade Administration, Department of Commerce.

SUMMARY: As a result of these expedited sunset reviews, the U.S. Department of Commerce (Commerce) finds that revocation of the antidumping duty (AD) orders on certain cold-drawn mechanical tubing of carbon and alloy steel from the People's Republic of China (China), the Federal Republic of Germany (Germany), India, Italy, the Republic of Korea (Korea), and Switzerland would be likely to lead to continuation or recurrence of dumping at the levels indicated in the “Final Results of Reviews” section of this notice.

DATES: Applicable March 20, 2023.

FOR FURTHER INFORMATION CONTACT: Whitley Herndon, AD/CVD Operations, Office V, Enforcement and Compliance, International Trade Administration, U.S. Department of Commerce, 1401 Constitution Avenue NW, Washington, DC 20230; telephone: (202) 482-6274.

SUPPLEMENTARY INFORMATION:

Background

On January 3, 2023, Commerce published the notice of initiation of the sunset review of the AD orders on certain cold-drawn mechanical tubing of carbon and alloy steel from China, Germany, India, Italy, Korea, and Switzerland ¹ pursuant to section 751(c) of the Tariff Act of 1930, as amended (the Act).²

¹ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Orders).

² See Initiation of Five-Year (Sunset) Reviews, 88 FR 63 (January 3, 2023) (Notice of Initiation).

On January 17, 2023, ArcelorMittal Tubular Products, Michigan Seamless Tube, LLC, PTC Alliance Corp., Webco Industries, Inc., and Zekelman Industries, Inc. (collectively, the domestic interested parties) notified Commerce of their intent to participate within the 15-day period specified in 19 CFR 351.218(d)(1)(i).³ The domestic interested parties claimed interested party status under section 771(9)(C) of the Act as producers of domestic like product in the United States.

³ See Domestic Interested Parties' Letters, “Five-Year (“Sunset”) Review of Antidumping Duty Order on Certain Cold-Drawn Mechanical Tubing of Carbon and Alloy Steel from China—Notice of Intent to Participate,” dated January 17, 2023; “Five-Year (“Sunset”) Review of Antidumping Duty Order on Certain Cold-Drawn Mechanical Tubing of Carbon and Alloy Steel from Germany—Notice of Intent to Participate,” dated January 18, 2023; “Five-Year (“Sunset”) Review of Antidumping Duty Order on Certain Cold-Drawn Mechanical Tubing of Carbon and Alloy Steel From India—Notice of Intent to Participate,” dated January 17, 2023; “Five-Year (“Sunset”) Review of Antidumping Duty Order on Certain Cold-Drawn Mechanical Tubing of Carbon and Alloy Steel from Italy—Notice of Intent to Participate,” dated January 17, 2023; “Five-Year (“Sunset”) Review of Antidumping Duty Order on Certain Cold-Drawn Mechanical Tubing of Carbon and Alloy Steel From Korea—Notice of Intent to Participate,” dated January 18, 2023; and “Five-Year (“Sunset”) Review of Antidumping Duty Order on Certain Cold-Drawn Mechanical Tubing of Carbon and Alloy Steel from Switzerland—Notice of Intent to Participate,” dated January 18, 2023 (collectively, Notices of Intent to Participate).

On February 1, 2023, Commerce received complete substantive responses to the Notice of Initiation with respect to the Orders from the domestic interested parties within the 30-day period specified in 19 CFR 351.218(d)(3)(i).⁴ Commerce did not receive a substantive response from any other interested parties with respect to the Orders covered by these sunset reviews. On February 24, 2023, Commerce notified the U.S. International Trade Commission that it did not receive an adequate substantive response from respondent interested parties in any of these sunset reviews.⁵ As a result, pursuant to section 751(c)(3)(8) of the Act and 19 CFR 351.218(e)(1)(ii)(C)(2), Commerce conducted expedited (120-day) sunset reviews of the Orders.

⁴ See Domestic Interested Parties' Letters, “First Sunset Review of the Antidumping Duty Order on Certain Cold-Drawn Mechanical Tubing of Carbon and Alloy Steel from the People's Republic of China: Substantive Response to Notice of Initiation,” dated February 1, 2023; “First Sunset Review of the Antidumping Duty Order on Certain Cold-Drawn Mechanical Tubing of Carbon and Alloy Steel from the Federal Republic of Germany: Substantive Response to Notice of Initiation,” dated February 2, 2023; “First Sunset Review of the Antidumping Duty Order on Certain Cold-Drawn Mechanical Tubing of Carbon and Alloy Steel from India: Substantive Response to Notice of Initiation,” dated February 1, 2023; “First Sunset Review of the Antidumping Duty Order on Certain Cold-Drawn Mechanical Tubing of Carbon and Alloy Steel from Italy: Substantive Response to Notice of Initiation,” dated February 1, 2023; “First Sunset Review of the Antidumping Duty Order on Certain Cold-Drawn Mechanical Tubing of Carbon and Alloy Steel from the Republic of Korea: Substantive Response to Notice of Initiation,” dated February 2, 2023; and “First Sunset Review of the Antidumping Duty Order on Certain Cold-Drawn Mechanical Tubing of Carbon and Alloy Steel from Switzerland: Substantive Response to Notice of Initiation,” dated February 1, 2023.

⁵ See Commerce's Letter, “Sunset Reviews for January 2023,” dated February 24, 2023.

Scope of the Orders

The scope of the Orders is certain cold-drawn mechanical tubing of carbon and alloy steel from China, Germany, India, Italy, Korea, and Switzerland. For a complete description of the scope of the Orders, see Appendix II to this notice.

Analysis of Comments Received

A complete discussion of all issues raised in these sunset reviews is provided in the accompanying Issues and Decision Memorandum.⁶ A list of the issues discussed in the Issues and Decision Memorandum is attached at Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

⁶ See Memorandum, “Issues and Decision Memorandum for the Final Results of the Expedited First Sunset Reviews of the Antidumping Duty Orders on Certain Cold-Drawn Mechanical Tubing of Carbon and Alloy Steel from the People's Republic of China, the Federal Republic of Germany, India, Italy, the Republic of Korea, and Switzerland,” dated concurrently with, and hereby adopted by, this notice.

Final Results of Sunset Reviews

Pursuant to sections 751(c)(1) and 752(c)(1) and (3) of the Act, Commerce determines that revocation of the Orders would likely lead to a continuation or recurrence of dumping and that the magnitude of the dumping margins likely to prevail would be weighted-average margins up to 186.89 percent for China, up to 209.06 percent for Germany, up to 33.80 percent for India, up to 68.95 percent for Italy, up to 48.00 percent for Korea, and up to 30.48 percent for Switzerland.

Administrative Protective Orders

This notice serves as the only reminder to parties subject to administrative protective order (APO) of their responsibility concerning the return/destruction or conversion to judicial protective order of proprietary information disclosed under APO in accordance with 19 CFR 351.305. Timely notification of the return or destruction of APO materials or conversion to judicial protective order is hereby requested. Failure to comply with the regulations and terms of an APO is a sanctionable violation.

Notification to Interested Parties

We are issuing and publishing the results in accordance with sections 751(c), 752(c), and 771(i)(1) of the Act and 19 CFR 351.218.

Dated: March 14, 2023.
Lisa W. Wang,
Assistant Secretary for Enforcement and Compliance.

Appendix I

List of Topics Discussed in the Issues and Decision Memorandum

I. Summary

II. Background

III. History of the Orders

IV. Legal Framework

V. Discussion of the Issues

1. Likelihood of Continuation or Recurrence of Dumping

2. Magnitude of the Margins of Dumping Likely To Prevail

VI. Final Results of Sunset Reviews

VII. Recommendation

Appendix II

Scope of the Orders

The products covered by these orders are cold-drawn mechanical tubing of carbon and alloy steel (cold-drawn mechanical tubing) of circular cross-section, 304.8 mm or more in length, in actual outside diameters less than 331mm, and regardless of wall thickness, surface finish, end finish or industry specification. The subject cold-drawn mechanical tubing is a tubular product with a circular cross-sectional shape that has been cold-drawn or otherwise cold-finished after the initial tube formation in a manner that involves a change in the diameter or wall thickness of the tubing, or both. The subject cold-drawn mechanical tubing may be produced from either welded (e.g., electric resistance welded, continuous welded, etc.) or seamless (e.g., pierced, pilgered or extruded, etc.) carbon or alloy steel tubular products. It may also be heat treated after cold working. Such heat treatments may include, but are not limited to, annealing, normalizing, quenching and tempering, stress relieving or finish annealing. Typical cold-drawing methods for subject merchandise include, but are not limited to, drawing over mandrel, rod drawing, plug drawing, sink drawing and similar processes that involve reducing the outside diameter of the tubing with a die or similar device, whether or not controlling the inside diameter of the tubing with an internal support device such as a mandrel, rod, plug or similar device. Other cold-finishing operations that may be used to produce subject merchandise include cold-rolling and cold-sizing the tubing.

Subject cold-drawn mechanical tubing is typically certified to meet industry specifications for cold-drawn tubing including but not limited to:

(1) American Society for Testing and Materials (ASTM) or American Society of Mechanical Engineers (ASME) specifications ASTM A-512, ASTM A-513 Type 3 (ASME SA513 Type 3), ASTM A-513 Type 4 (ASME SA513 Type 4), ASTM A-513 Type 5 (ASME SA513 Type 5), ASTM A-513 Type 6 (ASME SA513 Type 6), ASTM A-519 (cold-finished);

(2) SAE International (Society of Automotive Engineers) specifications SAE J524, SAE J525, SAE J2833, SAE J2614, SAE J2467, SAE J2435, SAE J2613;

(3) Aerospace Material Specification (AMS) AMS T-6736 (AMS 6736), AMS 6371, AMS 5050, AMS 5075, AMS 5062, AMS 6360, AMS 6361, AMS 6362, AMS 6371, AMS 6372, AMS 6374, AMS 6381, AMS 6415;

(4) United States Military Standards (MIL) MIL-T-5066 and MIL-T-6736;

(5) foreign standards equivalent to one of the previously listed ASTM, ASME, SAE, AMS or MIL specifications including but not limited to:

(a) German Institute for Standardization (DIN) specifications DIN 2391-2, DIN 2393-2, DIN 2394-2);

(b) European Standards (EN) EN 10305-1, EN 10305-2, EN 10305-4, EN 10305-6 and European national variations on those standards (e.g., British Standard (BS EN), Irish Standard (IS EN) and German Standard (DIN EN) variations, etc.);

(c) Japanese Industrial Standard (JIS) JIS G 3441 and JIS G 3445; and

(6) proprietary standards that are based on one of the above-listed standards.

The subject cold-drawn mechanical tubing may also be dual or multiple certified to more than one standard. Pipe that is multiple certified as cold-drawn mechanical tubing and to other specifications not covered by this scope, is also covered by the scope of these orders when it meets the physical description set forth above.

Steel products included in the scope of these orders are products in which: (1) Iron predominates, by weight, over each of the other contained elements; and (2) the carbon content is 2 percent or less by weight.

For purposes of this scope, the place of cold-drawing determines the country of origin of the subject merchandise. Subject merchandise that is subject to minor working in a third country that occurs after drawing in one of the subject countries including, but not limited to, heat treatment, cutting to length, straightening, nondestruction testing, deburring or chamfering, remains within the scope of these orders.

All products that meet the written physical description are within the scope of these orders unless specifically excluded or covered by the scope of an existing order. Merchandise that meets the physical description of cold-drawn mechanical tubing above is within the scope of these orders even if it is also dual or multiple certified to an otherwise excluded specification listed below. The following products are outside of, and/or specifically excluded from, the scope of these orders:

(1) Cold-drawn stainless steel tubing, containing 10.5 percent or more of chromium by weight and not more than 1.2 percent of carbon by weight;

(2) products certified to one or more of the ASTM, ASME or American Petroleum Institute (API) specifications listed below:

ASTM A-53;

ASTM A-106;

ASTM A-179 (ASME SA 179);

ASTM A-192 (ASME SA 192);

ASTM A-209 (ASME SA 209);

ASTM A-210 (ASME SA 210);

ASTM A-213 (ASME SA 213);

ASTM A-334 (ASME SA 334);

ASTM A-423 (ASME SA 423);

ASTM A-498;

ASTM A-496 (ASME SA 496);

ASTM A-199;

ASTM A-500;

ASTM A-556;

ASTM A-565;

API 5L; and

API 5CT

except that any cold-drawn tubing product certified to one of the above excluded specifications will not be excluded from the scope if it is also dual- or multiple-certified to any other specification that otherwise would fall within the scope of these orders.

The products subject to these orders are currently classified in the Harmonized Tariff Schedule of the United States (HTSUS) under item numbers: 7304.31.3000, 7304.31.6050, 7304.51.1000, 7304.51.5005, 7304.51.5060, 7306.30.5015, 7306.30.5020, 7306.50.5030. Subject merchandise may also enter under numbers 7306.30.1000 and 7306.50.1000. The HTSUS subheadings above are provided for convenience and customs purposes only. The written description of the scope of these orders are dispositive.

[FR Doc. 2023-05619 Filed 3-17-23; 8:45 am]

BILLING CODE 3510-DS-P